DEPARTMENT OF DEFENSE

Department of the Air Force

[Docket ID: USAF-2008-0031]

Privacy Act of 1974; System of Records

AGENCY: Department of the Air Force, DoD.

ACTION: Notice to alter a system of records notice.

SUMMARY: The Department of the Air Force proposes to alter a system of records notice to its inventory of records systems subject to the Privacy Act of 1974 (5 U.S.C. 552a), as amended.

DATES: The actions will be effective on December 12, 2008 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Kenneth Brodie at (703) 696-7557.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on October 24, 2008, to the House Committee on Government Oversight and Reform, the Senate Committee on Homeland Security and Governmental Affairs, and the Office of Management and Budget (OMB) pursuant to paragraph 4c of Appendix I to OMB Circular No. A-130, Federal Agency Responsibilities for Maintaining Records About Individuals, dated February 8, 1996 (February 20, 1996, 61 FR 6427).

Dated: November 3, 2008.
Morgan E. Frazier,
Alternate OSD Federal Register Liaison Officer, Department of Defense.

F031 11 SPS A

System name:

Presidential Support Files (June 11, 1997, 62 FR 31793).

Changes:

* * * * *

System name:

Delete entry and replace with “Presidential Advance Agent Scheduling System Records.”

System location:

Delete entry and replace with “Headquarters, United States Air Force Presidential Flight Support, 1670 Air Force Pentagon, Room 4C887, Washington DC 20330-1670.”

Categories of individuals covered by the system:

Delete entry and replace with “Active duty Air Force personnel, Air Force Reserve and Air National Guard military personnel.”

Categories of records in the system:

Delete entry and replace with “Individual's name, date of birth, work/home/cell phone numbers, work/home addresses, Social Security Number (SSN), passport number and dates, security clearance status, training requirement status, and Spouse's name.”

Authority for maintenance of the system:

Delete entry and replace with “10 U.S.C. 8013, Secretary of the Air Force; 10 U.S.C. 8032, the Air Staff: general duties; and EO 9397 (SSN).”

Purpose(s):

Delete entry and replace with “The system contains records used to schedule and execute worldwide travel for Air Force Presidential Advance Agents.”

* * * * *

System manager(s) and address:

Delete entry and replace with “Department of the Air Force, 1777 N Kent St (RPN), Suite 3200, Rosslyn, VA 22209-2110.”

* * * * *

Record source categories:

Delete entry and replace with “Information is received from the individual and personnel records.”

* * * * *

F031 11 AF SPS A

System name:

Presidential Advance Agent Scheduling System Records.

System location:

Headquarters, United States Air Force Presidential Flight Support, 1670 Air Force Pentagon, Room 4C887, Washington D.C. 20330-1670.

Categories of individuals covered by the system:

Active duty Air Force personnel, Air Force Reserve and Air National Guard military personnel.

Categories of records in the system:

Individual's name, date of birth, work/home/cell phone numbers, work/home addresses, Social Security Number (SSN), passport number/dates, security clearance status, training requirement status, and Spouse's name.

Authority for maintenance of the system:

10 U.S.C. 8013, Secretary of the Air Force; 10 U.S.C. 8032, the Air Staff: general duties; and EO 9397 (SSN).

Purpose(s):

The system contains records used to schedule and execute worldwide travel for Air Force Presidential Advance Agents.

Routine uses of records maintained in the system, including categories of users and the purposes of such uses:

The DoD Blanket Routine Uses published at the beginning of the Air Force's compilation of systems of records notices apply to this system.

Policies and practices for storing, retrieving, accessing, retaining, and disposing of records in the system:

Storage:

Paper records are in file folders and electronic storage media.

Retrievability:

Files are retrieved by individual's name.

Safeguards:

Records are accessed by persons responsible for servicing the record system in performance of their official duties and by authorized personnel who are properly screened and cleared for need to know. Records are stored in locked rooms and cabinets. Those in computer storage devices are protected by computer system software.

Retention and disposal:

Retain records until they are obsolete. Records are destroyed by burning. Computer records are destroyed by erasing, deleting or overwriting.

System manager(s) and address:

Department of the Air Force, 1777 N Kent St (RPN), Suite 3200, Rosslyn, VA 22209-2110.

Notification procedure:

Individuals seeking to determine whether data about themselves are contained in this system should address written inquiries to Department of Air Force, 1670 Air Force Pentagon, Washington DC 20330-1670.

Requests should contain individual's name and dates they were an Advance Agent.

Record access procedures:

Individuals seeking to determine whether information about them is contained in this system should address written inquiries to Department of Air Force, 1670 Air Force Pentagon, Washington DC 20330-1670.

Requests should contain individual's name and dates they were an Advance Agent

Contesting record procedures:

The Air Force rules for accessing records, and for contesting contents and appealing initial agency determinations are published in Air Force Instruction 37-132; 32 CFR part 806b; or may be obtained from the system manager.

Record source categories:

Information is received from the individual and personnel records.

Exemptions claimed for the system:

None.

[FR Doc. E8-26750 Filed 11-10-08; 8:45 am]

BILLING CODE 5001-06-P